ENVIRONMENTAL PROTECTION AGENCY

[FRL-7962-8]

Science Advisory Board Staff Office Notification of Advisory Meeting of the SAB Aquatic Life Criteria Guidelines Consultative Panel

AGENCY: Environmental Protection Agency (EPA).

ACTION: Notice.

SUMMARY: The EPA Science Advisory Board (SAB) Staff Office announces a public meeting of the SAB Aquatic Life Criteria Guidelines Consultative Panel.

DATES: September 21, 2005: The SAB Aquatic Life Criteria Guidelines Consultative Panel will meet on Wednesday, September 21, 2005 at 8:30 a.m., adjourning at approximately 5 p.m. (Eastern Daylight Time).

ADDRESSES: The public meeting of the Panel will be held at the Science Advisory Board Conference Center located at 1025 F Street, NW., Suite 3705, Washington, DC 20004.

FOR FURTHER INFORMATION CONTACT: Any member of the public wishing further information regarding the public meeting may contact Dr. Thomas Armitage, Designated Federal Officer (DFO), U.S. EPA Science Advisory Board by telephone/voice mail at (202) 343-9995, fax at (202) 233-0643, by e-mail at armitage.thomas@epa.gov, or by mail at U.S. EPA SAB (1400F), 1200 Pennsylvania Ave., NW., Washington, DC, 20460. General information about the SAB and the meeting location may be found on the SAB Web site, http://www.epa.sab.

SUPPLEMENTARY INFORMATION: SUMMARY: Pursuant to the Federal Advisory Committee Act, Public Law 92-463, Notice is hereby given that the Panel will hold a public meeting to conduct a consultation with EPA on a proposed framework for revising the Aquatic Life Criteria Guidelines. The dates and times for the meeting are provided above.

Background: Background on the meeting described in this notice was provided in a Federal Register Notice published on February 15, 2005 (70 FR 7734-7735). EPA's recommended ambient water quality criteria for aquatic life provide guidance to states and tribes for adopting water quality standards which are the basis for controlling discharges or releases of pollutants. Currently, ambient water quality criteria for aquatic life protection are derived according to the Guidelines for Derivation of Ambient Water Quality Criteria for the Protection of Aquatic Life and Their Uses, published in 1985. EPA's Office of Water has assessed the need to update the Guidelines, identified issues to be addressed in the Guidelines revisions, and will review the state-of-the-science and recommend new or improved approaches for deriving ambient water quality criteria. At the meeting, the SAB Aquatic Life Criteria Guidelines Panel will conduct a consultation with EPA on a proposed framework for improving the development of ambient water quality criteria. A roster of Panel members and their biosketches will be posted on the SAB website prior to the meeting.

Availability of Meeting Materials: The meeting agenda and the charge to the SAB panel will be posted on the SAB website prior to the meeting. Meeting materials also include: (1) Four papers that provide an overview or framework of the approaches and methods being proposed for revising aquatic life water quality criteria; (2) an EPA report, Summary of Proposed Revisions to the Aquatic Life Criteria Guidelines; and (3) EPA's Guidelines for Ecological Risk Assessment. EPA's Guidelines for Ecological Risk Assessment are available at the following Web site: http://cfpub.epa.gov/ncea/raf/recordisplay.cfm?deid=12460. Copies of other materials may be obtained by contacting Dr. Tala Henry, EPA Office of Water, by telephone: 202-566-1323, or e-mail: henry.tala@epa.gov.

Procedures for Providing Public Comments: The SAB Staff Office accepts written public comments, and will accommodate oral public comments when possible. Written Comments: Written comments are preferred and should be submitted by e-mail to Dr. Thomas Armitage at armitage.thomas@epa.gov in Adobe Acrobat, WordPerfect, Word, or Rich Text files in IBM-PC/Windows 98/2000/XP format) by September 14, 2005. Those without access to e-mail may submit one signed hard copy of the comments to Dr. Armitage by mail or courier. Commenters planning to attend the meeting in person are asked to bring 35 copies of their comments for public distribution. Oral Comments: Requests to provide oral comments must be in writing (e-mail or fax) and received by Dr. Armitage no later than September 14, 2005 to reserve time on the meeting agenda. Presentation time for oral comment will typically be about five minutes per speaker, but may be reduced depending on time availability and the number of requests.

Meeting Accommodations: Individuals requiring special accommodation to access the public meeting listed above should contact the DFO at least five business days prior to the meeting so that appropriate arrangements can be made.

Dated: August 23, 2005.
Anthony Maciorowski,
Acting Director, EPA Science Advisory Board Staff Office.

[FR Doc. 05-17198 Filed 8-29-05; 8:45 am]

BILLING CODE 6560-50-P